DEPARTMENT OF COMMERCE

International Trade Administration

[A-570-893]

Certain Frozen Warmwater Shrimp from the People's Republic of China: Final Rescission of Antidumping Duty New Shipper Review

AGENCY: Import Administration, International Trade Administration, Department of Commerce.

SUMMARY: The Department of Commerce (“the Department”) is currently conducting a semi-annual 2006 new shipper review of the antidumping duty order on certain frozen warmwater shrimp (“shrimp”) from the People's Republic of China (“PRC”). We determine that Maoming Changxing Foods Co., Ltd. (“Maoming Changxing”) has failed to demonstrate its status as a separate entity entitled to a new shipper review. Therefore, we have determined that this new shipper review should be rescinded.

EFFECTIVE DATE: December 21, 2007.

FOR FURTHER INFORMATION CONTACT: Cindy Lai Robinson, AD/CVD Operations, Office 9, Import Administration, International Trade Administration, U.S. Department of Commerce, 14th Street and Constitution Avenue, NW, Washington, D.C., 20230; telephone: (202) 482-3797.

SUPPLEMENTARY INFORMATION:

Background

The Department received a timely request from Maoming Changxing, in accordance with 19 CFR 351.214(c), for a new shipper review of the antidumping duty order on shrimp from the PRC. On September 29, 2006, the Department initiated an antidumping duty new shipper review covering the period February 1, 2006, through July 31, 2006. See Certain Frozen Warmwater Shrimp from the People's Republic of China: Initiation of New Shipper Review, 71 FR 57469 (September 29, 2006) (“Initiation Notice”).

On July 26, 2007, the Department preliminarily rescinded this new shipper review because Maoming Changxing had failed to demonstrate its eligibility for a separate rate. See Certain Frozen Warmwater Shrimp from the People's Republic of China: Preliminary Notice of Intent to Rescind Antidumping Duty New Shipper Review, 72 FR 41058 (July 26, 2007).

On August 27, 2007, the Department received case briefs from Maoming Changxing and the Ad Hoc Shrimp Trade Action Committee (“Petitioners”). The Department received rebuttal briefs on September 6, 2007, from the same parties.

On October 12, 2007, the Department extended the time limits for the final results of this new shipper review to December 17, 2007. See Notice of Extension of the Final Results of Antidumping Duty New Shipper Review: Certain Frozen Warmwater Shrimp from the People's Republic of China, 72 FR 58055 (October 12, 2007).

Scope of Order

The scope of this order includes certain frozen warmwater shrimp and prawns, whether wild-caught (ocean harvested) or farm-raised (produced by aquaculture), head-on or head-off, shell-on or peeled, tail-on or tail-off, deveined or not deveined, cooked or raw, or otherwise processed in frozen form.

The frozen warmwater shrimp and prawn products included in the scope of this investigation, regardless of definitions in the Harmonized Tariff Schedule of the United States (“HTS”), are products which are processed from warmwater shrimp and prawns through freezing and which are sold in any count size.

The products described above may be processed from any species of warmwater shrimp and prawns. Warmwater shrimp and prawns are generally classified in, but are not limited to, the Penaeidae family. Some examples of the farmed and wild-caught warmwater species include, but are not limited to, white-leg shrimp (Penaeus vannemei), banana prawn (Penaeus merguiensis), fleshy prawn (Penaeus chinensis), giant river prawn (Macrobrachium rosenbergii), giant tiger prawn (Penaeus monodon), redspotted shrimp (Penaeus brasiliensis), southern brown shrimp (Penaeus subtilis), southern pink shrimp (Penaeus notialis), southern rough shrimp (Trachypenaeus curvirostris), southern white shrimp (Penaeus schmitti), blue shrimp (Penaeus stylirostris), western white shrimp (Penaeus occidentalis), and Indian white prawn (Penaeus indicus).

Frozen shrimp and prawns that are packed with marinade, spices or sauce are included in the scope of this investigation. In addition, food preparations, which are not “prepared meals,” that contain more than 20 percent by weight of shrimp or prawn are also included in the scope of this investigation.

Excluded from the scope are: (1) Breaded shrimp and prawns ( HTS subheading 1605.20.10.20); (2) shrimp and prawns generally classified in the Pandalidae family and commonly referred to as coldwater shrimp, in any state of processing; (3) fresh shrimp and prawns whether shell-on or peeled (HTS subheadings 0306.23.00.20 and 0306.23.00.40); (4) shrimp and prawns in prepared meals (HTS subheading 1605.20.05.10); (5) dried shrimp and prawns; (6) Lee Kum Kee's shrimp sauce; (7) canned warmwater shrimp and prawns (HTS subheading 1605.20.10.40); (8) certain dusted shrimp;¹ and (9) certain battered shrimp.²

¹ Dusted shrimp is a shrimp-based product: (1) That is produced from fresh (or thawed-from-frozen) and peeled shrimp; (2) to which a “dusting” layer of rice or wheat flour of at least 95 percent purity has been applied; (3) with the entire surface of the shrimp flesh thoroughly and evenly coated with the flour; (4) with the non-shrimp content of the end product constituting between four and 10 percent of the product's total weight after being dusted, but prior to being frozen; and (5) that is subjected to individually quick frozen (“IQF”) freezing immediately after application of the dusting layer.

² Battered shrimp is a shrimp-based product that, when dusted in accordance with the definition of dusting above, is coated with a wet viscous layer containing egg and/or milk, and par-fried.

The products covered by this investigation are currently classified under the following HTS subheadings: 0306.13.00.03, 0306.13.00.06, 0306.13.00.09, 0306.13.00.12, 0306.13.00.15, 0306.13.00.18, 0306.13.00.21, 0306.13.00.24, 0306.13.00.27, 0306.13.00.40, 1605.20.10.10, and 1605.20.10.30. These HTS subheadings are provided for convenience and for customs purposes only and are not dispositive, but rather the written description of the scope of this investigation is dispositive.

Period of Review

The period of review (“POR”) is February 1, 2006, through July 31, 2006.

Analysis of Comments Received

All issues raised in the briefs are addressed in the Memorandum to the Assistant Secretary: Issues and Decision Memorandum for the Final Rescission in the Antidumping Duty New Shipper Review of Certain Frozen Warmwater Shrimp from the People's Republic of China, dated October 17, 2007 (“Issues and Decision Memorandum”), which is hereby adopted by this notice. A list of the issues raised, all of which are in the Issues and Decision Memorandum, is attached to this notice as Appendix I. Parties can find a complete discussion of all issues raised in the briefs and the corresponding recommendations in this public memorandum which is on file in the Central Records Unit (CRU), room B-099 of the Department of Commerce building. In addition, a complete version of the Issues and Decision Memorandum can be accessed directly on the Web at http://www.trade.gov/ia/. The paper copy and electronic version of the Issues and Decision Memorandum are identical in content.

Final Rescission of Review

As discussed in the Issues and Decision Memorandum at Comment 1, the Department has determined that Maoming Changxing does not meet the requirements for establishing its qualification for a new shipper review under section 351.214(a) of the Department's regulations because it did not provide the Department with complete, accurate, reliable, and verifiable information regarding its ownership and affiliation. Because the Department was unable to determine the party's affiliations and Maoming Changxing failed to demonstrate that it is separate from any entity which shipped during the original period of investigation, Maoming Changxing is considered part of the PRC-wide entity. Accordingly, we are rescinding this new shipper review. See, e.g., Freshwater Crawfish Tail Meat From the People's Republic's of China: Rescission of New Shipper Reviews, 72 FR 26782 (May 11, 2007); see also Brake Rotors from the People's Republic of China: Rescission of Second New Shipper Review and Final Results and Partial Rescission of First Antidumping Duty Administrative Review, 64 FR 61581 (November 12, 1999). As the Department is rescinding this new shipper review, we are not calculating a company-specific rate for Maoming Changxing, and Maoming Changxing will remain part of the PRC-wide entity.

Changes Since the Preliminary Results

We have made no changes to our preliminary decision to rescind the new shipper review of Maoming Changxing.

Assessment of Antidumping Duties

A cash deposit of 112.81 percent ad valorem shall be collected for any entries produced or exported by Maoming Changxing. The Department will issue appropriate assessment instructions directly to CBP after 15 days from the publication of this notice.³

³ Note that the Department published the final rescission of the administrative review for certain frozen warmwater shrimp from the PRC covering the period February 1, 2006, through January 21, 2007. See Certain Frozen Warmwater Shrimp from the People's Republic of China: Rescission of the Second Administrative Review, 72 FR 61858 (November 1, 2007). Maoming Changxing is hereby considered part of the PRC-wide entity. The Department will issue liquidation instructions for the PRC-wide entity, which includes Maoming Changxing, 15 days after the publication of this notice.

Notification to Interested Parties

This notice serves as the final reminder to importers of their responsibility under 19 CFR 351.402(f) to file a certificate regarding the reimbursement of antidumping duties prior to liquidation of the relevant entries during this review period. Failure to comply with this requirement could result in the Secretary's presumption that reimbursement of antidumping duties occurred and in the subsequent assessment of double antidumping duties.

This notice also serves as the only reminder to parties subject to administrative protective order (“APO”) of their responsibility concerning the return/destruction or conversion to judicial protective order of proprietary information disclosed under APO in accordance with 19 CFR 351.305(a)(3). Failure to comply is a violation of the APO.

This new shipper review and this notice are published in accordance with sections 751(a)(2)(B) and 777(i)(1) of the Tariff Act of 1930, as amended, and 19 CFR 351.214(f)(3).

Dated: December 17, 2007.
David M. Spooner,
Assistant Secretary for Import Administration.

Appendix I

Comment 1: Whether to Rescind the Review

Comment 2: The Margin Assigned to Maoming Changxing

[FR Doc. E7-24851 Filed 12-20-07; 8:45 am]

BILLING CODE 3510-DS-S